DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the United States Department of Agriculture (USDA) Rural Development administers rural utilities programs through the Rural Utilities Service (RUS). The USDA Rural Development invites comments on the following information collections for which the Agency intends to request approval from the Office of Management and Budget (OMB).

DATES: Comments on this notice must be received by January 7, 2019.

FOR FURTHER INFORMATION CONTACT: Thomas P. Dickson, Rural Development Innovation Center, 1400 Independence Avenue SW, STOP 1522, Room 5164, South Building, Washington, DC 20250-1522. Telephone: (202) 690-4492. Email: Thomas.Dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension. Comments are invited on: (a) Whether this collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on respondents, including through the use of appropriate automated, electronic, mechanical or other technological collection techniques or other forms of information technology.

Comments may be sent by any of the following methods:

• Mail: Thomas P. Dickson, Rural Development Innovation Center, 1400 Independence Avenue SW, STOP 1522, Room 5164, South Building, Washington, DC 20250-1522. Telephone: (202) 690-4492. Email: Thomas.Dickson@wdc.usda.gov.

• Federal eRulemaking Portal: Go to https://www.regulations.gov. Follow the instructions for submitting comments.

Title: Extensions of Payments of Principal and Interest.

OMB Control Number: 0572-0123.

Type of Request: Extension of a currently approved information collection.

Abstract: This collection of information describes information procedures which borrowers must follow in order to request extensions of principal and interest. Authority for these is contained in section 12 of the Rural Electrification Act of 1936 (REAct), as amended and in section 236 of the “Disaster Relief Act of 1970” (Pub. L. 91-606), as amended by the Department of Agriculture Reorganization Act of 1994 (Pub. L. 103-354). Eligible purposes include financial hardship, energy resource conservation (ERC) loans, renewable energy projects, distributed generation projects, and contribution-in-aid of construction. These procedures are codified at 7 CFR part 1721, subpart B.

Estimate of Burden: Public reporting for this collection of information is estimated to average 4.71 hours per response.

Respondents: Not-for-profit institutions.

Estimated Number of Respondents: 7.

Estimated Number of Responses per Respondent: 1.14.

Estimated Total Annual Burden on Respondents: 61 hours.

Copies of this information collection can be obtained from Robin M. Jones, Innovation Center, at (202) 772-1172, Email: robin.m.jones@usda.gov.

All responses to this notice will be summarized and included in the request for OMB approval. All comments will also become a matter of public record.

Dated: November 1, 2018.
Christopher A. McLean,
Acting Administrator, Rural Utilities Service.

[FR Doc. 2018-24352 Filed 11-6-18; 8:45 am]

BILLING CODE 3410-15-P